ENVIRONMENTAL PROTECTION AGENCY

[EPA-HQ-OAR-2012-0546; FRL-9910-79-OAR]

Contractor Access to Information Claimed as Confidential Business Information Submitted Under Title II of the Clean Air Act and Related to the Renewable Fuel Standard Program

AGENCY: Environmental Protection Agency (EPA).

ACTION: Notice.

SUMMARY: The Environmental Protection Agency (EPA)'s Office of Transportation and Air Quality plans to authorize a contractor to access information which has been and will be submitted to the EPA under Title II of the Clean Air Act and that may be claimed as, or may be determined to be, confidential business information. Such information is related to small refinery exemptions under the Renewable Fuel Standard program.

DATES: The EPA will accept comments on this notice through May 19, 2014.

FOR FURTHER INFORMATION CONTACT: Mary Manners, Environmental Protection Agency, Office of Transportation and Air Quality, Compliance Division; 2000 Traverwood, Ann Arbor, Michigan, 48105; telephone number: 734-214-4873; fax number: 734-214-4053; email address: manners.mary@epa.gov.

SUPPLEMENTARY INFORMATION:

I. Does this notice apply to me?

This action is directed to the general public. However, this action may be of particular interest to parties who submit or have previously submitted a small refinery exemption petition to the EPA under the Renewable Fuel Standard (RFS) program as described in 40 CFR part 80, Subpart M. If you have further questions regarding the applicability of this action to a particular party, please contact the person listed in FOR FURTHER INFORMATION CONTACT.

II. How can I get copies of this document and other related information?

A. Electronically

The EPA has established a public docket for this Federal Register notice under Docket EPA-HQ-OAR-2012-0546.

All documents in the docket are identified in the docket index available at http://www.regulations.gov. Although listed in the index, some information is not publicly available, such as confidential business information (CBI) or other information for which disclosure is restricted by statute. Certain materials, such as copyrighted material, will only be available in hard copy at the EPA Docket Center.

B. EPA Docket Center

Materials listed under Docket EPA-HQ-OAR-2012-0546 will be available either electronically through http://www.regulations.gov or in hard copy at the Air and Radiation Docket and Information Center, EPA/DC, EPA West, Room 3334, 1301 Constitution Avenue NW., Washington, DC 20460. The EPA Docket Center Public Reading Room is open from 8:30 a.m. to 4:30 p.m., Monday through Friday, excluding legal holidays. The telephone number for the Reading Room is (202) 566-1744, and the telephone number for the Air Docket is (202) 566-1742.

III. Description of Program and Potential Disclosure of Information Claimed as CBI to Contractors

The RFS program as established by the Energy Policy Act of 2005 and amended by the Energy Independence and Security Act of 2007 exempted small refineries from the renewable fuel standards through December 31, 2010. After this initial period, the statute allows that small refineries may, on a case-by-case basis, petition the EPA for an extension of their exemption. The EPA may approve such petitions if it finds that disproportionate economic hardship exists. The EPA continues to implement these provisions. In evaluating such petitions, the EPA must consult with the Department of Energy (DOE), and must consider the findings of the DOE study required under CAA 211(o)(9)(A)(ii)(I) and other economic factors. Historically, companies seeking a small refinery exemption have claimed their petitions to be CBI. Information submitted under such a claim is handled in accordance with the EPA's regulations at 40 CFR part 2, subpart B and in accordance with EPA procedures, including comprehensive system security plans (SSPs) that are consistent with those regulations. When the EPA has determined that disclosure of information claimed as CBI to contractors is necessary, the corresponding contract must address the appropriate use and handling of the information by the contractor and the contractor must require its personnel who require access to information claimed as CBI to sign written non-disclosure agreements before they are granted access to data.

In accordance with 40 CFR 2.301(h), we have determined that the contractor listed below requires access to CBI submitted to the EPA under the Clean Air Act and in connection with the RFS program (40 CFR part 80, Subpart M). We are issuing this Federal Register notice to inform all affected submitters of information that we plan to grant access to material that may be claimed as CBI to the contractors identified below on a need-to-know basis.

Under DOE Contract Number DE-BP0003293, Stillwater Associates, 3 Rainstar, Irvine, California 92614, has provided and will continue to provide technical support that involves access to information claimed as CBI related to 40 CFR Part 80, Subpart M. Access to data, including information claimed as CBI, will commence immediately upon publication of this notice in the Federal Register and will continue indefinitely as the Agency expects to receive additional petitions for small refinery exemptions for future annual program compliance periods. If the contract is extended, this access will continue for the remainder of the contract without further notice.

Parties who wish further information about this Federal Register notice or about OTAQ's disclosure of information claimed as CBI to contactors may contact the person listed under FOR FURTHER INFORMATION CONTACT.

List of Subjects

Environmental protection; Confidential business information.

Dated: May 6, 2014.
Byron J. Bunker,
Director, Compliance Division, Office of Transportation and Air Quality, Office of Air and Radiation.

[FR Doc. 2014-10953 Filed 5-12-14; 8:45 am]

BILLING CODE 6560-50-P